DEPARTMENT OF THE INTERIOR

Bureau of Land Management

[NV-020-1430-EQ; N-73965]

Notice of Realty Action for Proposed Occupancy Lease of Public Lands, Nevada.

AGENCY: Bureau of Land Management, Interior.

ACTION: The proposed leasing of public lands for a year round residence.

The site proposed for leasing under provisions of section 302 of the Federal Land Policy and Management Act (FLPMA) of 1976 and 43 CFR Part 2920 is described as a portion of:

Mount Diablo Meridian, Nevada

T. 31 N., R. 23 E.,

Sec. 11: S½SE¼SE¼NW¼SW¼, N½NE¼NE¼SW¼SW¼, W½NW¼NW¼SE¼SW¼.

The proposal would include approximately 2.59 acres.

The parcel affected by the proposed lease is located adjacent to the airport near the community of Empire, Nevada. No additional development/construction, or surface disturbance of the area would occur as a result of this lease.

No other proposals will be accepted. The subject parcel is currently encumbered by a mobile home, garage, shed, corral, and is fenced. All structures on the subject parcel are owned by the applicant and were originally authorized in a Public Airport Lease that was issued March 10, 1982. The lease was issued pursuant to the Act of May 24, 1928, as amended, (49 U.S.C. 211-214) and the regulations thereunder (43 CFR 2911).

The purpose of the occupancy lease is to segregate the occupied area from the current Public Airport Lease N-12640. Therefore, no other proposals would be acceptable.

The proposal would be authorized by a lease for a term of 10 years. The lease could be renewed at the discretion of the authorized officer.

The subject parcel falls into the Market Rental/Minimum Transaction Value for Small Sites of 5 acres or Less Category, which has determined the rent to be $500.00 per year, for parcels less than 5 acres. This rent determination will be in effect until September 20, 2001 at which time it will be reviewed and adjusted accordingly.

For a period of 45 days from the date of publication of this notice in the Federal Register, interested parties may submit comments to the Field Manager, Winnemucca Field Office, 5100 E. Winnemucca Boulevard, Winnemucca, Nevada 89445. In the absence of adverse comments, an application for the proposed use will be processed in accordance with propose application procedures.

FOR FURTHER INFORMATION CONTACT: Mary Figarelle, Realty Specialist, Winnemucca Field Office, 5100 E. Winnemucca Boulevard, Winnemucca, Nevada 89445, or call (775) 623-1500.

Dated: February 7, 2001.
Terry A. Reed,
Field Manager, Winnemucca, Nevada.

[FR Doc. 01-4314 Filed 2-21-01; 8:45 am]

BILLING CODE 4310-HC-U